GENERAL SERVICES ADMINISTRATION

Office of Management Services; Revision of a Standard Form

AGENCY: Office of Management Services, GSA.

ACTION: Notice.

SUMMARY: The General Services Administration, Federal Supply Service has revised the following Standard form: SF 1186, Transmittal for Transportation Schedules and Related Basic Documents.

The address on where to send the completed form was updated. You can obtain camera copy of SF 1186 two ways:

On the Internet. Address: http://www.gsa.gov/forms, or;

From Forms—CAP, Attn.: Barbara Williams, (202) 501-0581.

FOR FURTHER INFORMATION CONTACT: Ms. Carolyn West, Passenger, Rail and Steamship Branch, (202) 208-1661. This contact is for information on completing the form and interpreting the regulation only.

DATES: Effective April 28, 2003.

Dated: April 15, 2003.
Barbara M. Williams,
Deputy Standard and Optional Forms Management Officer, General Services Administration.

[FR Doc. 03-10312 Filed 4-25-03; 8:45 am]

BILLING CODE 6820-34-M